ENVIRONMENTAL PROTECTION AGENCY

[ER-FRL-6635-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-FHW-J40157-MT Rating EC2, US 89 from Fairfield to Dupuyer Corridors Study, Reconstruction, Widening, Realignment and Route Connection between Yellowstone National Park to the South with Glacier National Park to the North, Teton and Pondera Counties, MT.

Summary: EPA expressed environmental concerns regarding impacts to wetlands and other aquatic resources. EPA recommended further analysis, disclosure and mitigation of these impacts. In addition, EPA recommended consultation with the Montana Department of Environmental Quality (MDEQ) to assure concurrence on proposed highway construction activities and compatibility with TMDL development.

ERP No. D-FRC-L05227-00 Rating EO2, Box Canyon Hydroelectric Project, (FERC Project No. 2042-013), New License Application for an existing 72-Megawatt (Mw) Hydroelectric Project, Public Utility District (PUD) No. 1, Pend Oreille River, Pend Oreille County, WA and Bonner County, ID.

Summary: EPA identified environmental objections with the preferred alternative because: (1) A comprehensive strategy for reducing elevated total dissolved gas concentrations has not been developed, (2) analyses needed to resolve questions related to fish passage at the project have not been completed and (3) studies needed to define project effects and mitigation have not been conducted nor completed.

ERP No. D-IBR-K39075-CA Rating EC2, Red Bluff Diversion Dam (RBDD) Fish Passage Improvement Project, Anadromous Fish Passage Improvements both Upstream and Downstream, Tehama-Colusa Canal Authority (TCCA), Tehama, Glenn, Colusa and Yolo Counties, CA.

Summary: EPA agreed with the project sponsors that the “Gates-Out” or “2-Month Gates-In” alternatives best meet the purpose and need of improving fish passage, while improving the reliability of agricultural water supply in the Tehama-Colusa and Corning Canal Systems. EPA expressed environmental concerns regarding hazardous materials, air quality and water quality impacts and requested additional information regarding these issues.

ERP No. DA-FHW-J40030-UT Rating EC2, US 189, Utah Valley to Heber Valley Widening and Realignment between the Junctions with UT-52 and US 40, Funding, Provo Canyon, Utah and Wasatch Counties, UT.

Summary: EPA expressed environmental concerns about the potential direct, indirect and cumulative impacts to aquatic resources. EPA requested that future documentation disclose impacts to aquatic resources and develop new alternatives that are responsive to the social and natural changes in the environment.

Final EISs

ERP No. F-AFS-J65013-MT Moose Post-Fire Project, Decrease in Potential Mortality from Bark Beetles to the remaining Live Douglas-fir and Spruce Trees, Merchantable Wood Fiber Recovery, Future Fire Risk Reduction and existing Road Access Modifications, Glacier View Ranger District, Flathead National Forest, Flathead County, MT.

Summary: EPA supports the selection of Alternative 3 although EPA continues to express environmental concerns regarding potential water quality impacts associated with logging in the watershed of Big Creek, a 303(d) listed stream.

ERP No. F-BLM-K65242-CA Coachella Valley California Desert Conservation Area Plan Amendment, Santa Rosa and San Jacinto Mountains Trails Management Plan, Implementation, Riverside and San Bernardino Counties, CA.

Summary: No formal comment letter was sent to the preparing agency.

ERP No. F-COE-H39010-KS Tuttle Creek Dam Safety Assurance Program, Flood Control, Water Supply, Water Quality, Fish and Wildlife, Recreation and Navigation Support Enhancements, Big Blue River, Riley and Potawatomie Counties, KS.

Summary: EPA has no objections to the preferred alternative of stabilizing the dam's foundation without drawdown.

ERP No. F-FHW-G40167-LA LA-1 Improvements Project, Golden Meadow to Port Fourchon Highway Construction, Funding, U.S. Army COE Section 10 and 404, NPDES and U.S. Coast Guard Bridge Permits Issuance, Lafoufche Parish, LA.

Summary: EPA has no objection to the selection and implementation of the preferred alternative.

ERP No. F-IBR-K61154-AZ Reach 11 Recreation Master Plan, Central Arizona Project (CAP) Canal, Between Cave Creek and Scottsdale Roads for Recreational Purposes and a Flood Detention Basin, City of Phoenix, Maricopa County, AZ.

Summary: EPA found that the Final EIS adequately addresses the issues raised in our comment letter on the Draft EIS.

ERP No. FA-FRC-L05208-WA Rocky Creek Hydroelectric Project, (FERC No. 10311-002) Construction and Operation of a 8.3 Megawatt (Mw) Project, License Application, Rocky Creek, Skagit County, WA.

Summary: EPA continues to have environmental objections to the proposed project because it would: (1) Pose a high risk of landslides that could significantly impact aquatic and terrestrial habitat and water quality, (2) degrade water quality in Martin Creek, designated an “extraordinary” water body by the State of Washington and (3) undermine the environmental and biological protection provisions of the State of Washington Habitat Conservation Plan.

Dated: December 3, 2002.
B. Katherine Biggs,
Associate Director, NEPA Compliance Division, Office of Federal Activities.

[FR Doc. 02-30949 Filed 12-5-02; 8:45 am]

BILLING CODE 6560-50-P